DEPARTMENT OF ENERGY

Fusion Energy Sciences Advisory Committee

AGENCY: Department of Energy, Office of Science.

ACTION: Notice of open meeting.

SUMMARY: This notice announces a meeting of the Fusion Energy Sciences Advisory Committee. The Federal Advisory Committee Act requires that public notice of these meetings be announced in the Federal Register.

DATES: Friday, March 15, 2013 9 a.m. to 5:45 p.m.

ADDRESSES: Bolger Center, 9600 Newbridge Drive, Potomac, Maryland 20854-4436.

FOR FURTHER INFORMATION CONTACT: Edmund J. Synakowski, Designated Federal Officer, Office of Fusion Energy Sciences; U.S. Department of Energy; 1000 Independence Avenue SW.; Washington, DC 20585-1290; Telephone: 301-903-4941.

SUPPLEMENTARY INFORMATION: Purpose of the Meeting: To complete the charge given to the Committee in the letter from the Director, Office of Science, dated December 20, 2012, asking the Fusion Energy Sciences Advisory Committee to provide input and advice on new or upgraded scientific user facilities that could contribute to world leading science during 2014-2024 necessary to position the DOE Office of Science at the forefront of scientific discovery.

Tentative Agenda:

• DOE/SC perspective and FY 2014 Congressional Budget Request*

• FES perspective and FY 2014 Congressional Budget Request for FES*

• Report from the Subcommittee dealing the charge on Scientific User Facilities

• Status of the ITER Project

• Public Comments

*The budget discussion will be part of the agenda only if the President's Budget Request for FY 2014 has been sent to the Congress before the date of this meeting.

Note: The FESAC meeting will be broadcast live on the Internet. You may find out how to access this broadcast by going to the following site prior to the start of the meeting. A video record of the meeting including the presentations that are made will be archived at this site after the meeting ends: http://doe.granicus.com/ViewPublisher.php?view_id=3

Public Participation: The meeting is open to the public. If you would like to file a written statement with the Committee, you may do so either before or after the meeting. If you would like to make oral statements regarding any of the items on the agenda, you should contact Dr. Ed Synakowski at 301-903-8584 (fax) or Ed.synakowski@science.doe.gov (email). Reasonable provision will be made to include the scheduled oral statements during the Public Comments time on the agenda. The Chairperson of the Committee will conduct the meeting to facilitate the orderly conduct of business. Public comment will follow the 10-minute rule.

This notice is being published less than 15 days prior to the meeting date due to programmatic issues that had to be resolved prior to the meeting date.

Minutes: The minutes of the meeting will be available for public review and copying within the Fusion Energy Sciences Advisory Committee Web site at: http://www.science.doe.gov/ofes/fesac.shtml.

Issued at Washington, DC, on March 11, 2013.
LaTanya R. Butler,
Deputy Committee Management Officer.

[FR Doc. 2013-05903 Filed 3-11-13; 4:15 pm]

BILLING CODE 6450-01-P